DEPARTMENT OF COMMERCE

National Oceanic and Atmospheric Administration

[I.D. 040706C]

Gulf of Mexico Fishery Management Council; Public Meeting

AGENCY: National Marine Fisheries Service (NMFS), National Oceanic and Atmospheric Administration (NOAA), Commerce.

ACTION: Notice of meeting cancellation.

SUMMARY: The Gulf of Mexico Fishery Management Council is cancelling the previously-published meeting of the Ad Hoc Shrimp Effort Working Group (SEWG) scheduled for May 23-24, 2006.

DATES: The SEWG meeting scheduled to convene at 9 a.m. on Tuesday May 23, 2006 and conclude no later than 3 p.m. on Wednesday May 24, 2006 has been cancelled and will be rescheduled at a later date.

ADDRESSES: Gulf of Mexico Fishery Management Council, 2203 North Lois Avenue, Suite 1100, Tampa, FL 33607.

FOR FURTHER INFORMATION CONTACT: Assane Diagne, Economist, telephone (813) 348-1630.

SUPPLEMENTARY INFORMATION: The original notice published in the Federal Register on April 13, 2006 (71 FR 19167). The Gulf of Mexico Fishery Management Council (Council) has canceled the meeting of the Ad Hoc Shrimp Effort Working Group scheduled to convene at 9 a.m. on Tuesday May 23, 2006 and conclude no later than 3 p.m. on Wednesday May 24, 2006 and will be rescheduled at a later date.

Dated: May 9, 2006.
Tracey L. Thompson,
Acting Director, Office of Sustainable Fisheries, National Marine Fisheries Service.

[FR Doc. E6-7308 Filed 5-12-06; 8:45 am]

BILLING CODE 3510-22-S